DEPARTMENT OF ENERGY

Federal Energy Regulatory Commission

Combined Notice of Filings #1

Take notice that the Commission received the following electric rate filings:

Docket Numbers: ER11-2815-007.

Applicants: American Transmission Systems, Incorporated, PJM Interconnection, L.L.C.

Description: ATSI submits ministerial revisions to OATT Att H-21B re formatting in ER11-2815 to be effective 6/1/2011.

Filed Date: 2/21/14.

Accession Number: 20140221-5165.

Comments Due: 5 p.m. ET 3/14/14.

Docket Numbers: ER12-1179-017.

Applicants: Southwest Power Pool, Inc.

Description: Errata Filing and Request for Shortened Comment Period to FCA Compliance to be effective 3/1/2014.

Filed Date: 2/21/14.

Accession Number: 20140221-5181.

Comments Due: 5 p.m. ET 2/27/14.

Docket Numbers: ER13-684-000.

Applicants: NV Energy, Inc.

Description: OATT Revisions Schedule 4—Refund Report (Schedules 4, 9 & 10) to be effective N/A.

Filed Date: 2/24/14.

Accession Number: 20140224-5084.

Comments Due: 5 p.m. ET 3/17/14.

Docket Numbers: ER14-81-002.

Applicants: Pacific Gas and Electric Company.

Description: Updated Effective Date for Balancing Account Revisions 2014 to be effective 5/1/2014.

Filed Date: 2/21/14.

Accession Number: 20140221-5166.

Comments Due: 5 p.m. ET 3/14/14.

Docket Numbers: ER14-424-001.

Applicants: Pennsylvania Electric Company, PJM Interconnection, L.L.C.

Description: PJM, Penelec & West Penn submit Compliance per 12/4/2013 Order in ER14-424 to be effective 2/12/2014.

Filed Date: 2/21/14.

Accession Number: 20140221-5180.

Comments Due: 5 p.m. ET 3/14/14.

Docket Numbers: ER14-455-001.

Applicants: Green Valley Hydro, LLC, PJM Interconnection, L.L.C.

Description: PJM & Green Valley Hydro submit Compliance per 12/6/2013 Order in ER14-455 to be effective 2/12/2014.

Filed Date: 2/21/14.

Accession Number: 20140221-5178.

Comments Due: 5 p.m. ET 3/14/14.

Docket Numbers: ER14-1353-000.

Applicants: Puget Sound Energy, Inc.

Description: Order No 792 Compliance Filing to be effective 2/21/2014.

Filed Date: 2/21/14.

Accession Number: 20140221-5167.

Comments Due: 5 p.m. ET 3/14/14.

Docket Numbers: ER14-1354-000.

Applicants: PJM Interconnection, L.L.C.

Description: Original Service Agreement No. 3739 and Cancellation of SA No. 3332 to be effective 1/13/2014.

Filed Date: 2/24/14.

Accession Number: 20140224-5100.

Comments Due: 5 p.m. ET 3/17/14.

Docket Numbers: ER14-1355-000.

Applicants: Lakeswind Power Partners, LLC.

Description: Change in Category Status to be effective 2/25/2014.

Filed Date: 2/24/14.

Accession Number: 20140224-5112.

Comments Due: 5 p.m. ET 3/17/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 24, 2014.
Nathaniel J. Davis, Sr.,
Deputy Secretary.

[FR Doc. 2014-04679 Filed 3-3-14; 8:45 am]

BILLING CODE 6717-01-P